COMMODITY FUTURES TRADING COMMISSION

17 CFR Part 43

RIN 3038-AD08

Real-Time Public Reporting of Swap Transaction Data

Correction

In proposed rule document 2010-29994 beginning on page 76140 in the issue of Tuesday, December 7, 2010, make the following correction:

Appendix A to Part 43 [Corrected]

On pages 76181 and 76182, in Appendix A to Part 43, in Table A2, the table heading should read “Table A2—Additional Real-Time Public Reporting Data Fields for Options, Swaptions and Swaps with Embedded Options.”

[FR Doc. C1-2010-29994 Filed 12-9-10; 8:45 am]

BILLING CODE 1505-01-D